DEPARTMENT OF COMMERCE

Economic Development Administration

Petition by a Firm for Certification of Eligibility To Apply for Trade Adjustment Assistance

ACTION: Proposed collection; comment request.

SUMMARY: The Department of Commerce, as part of its continuing effort to reduce paperwork and respondent burden, invites the general public and other Federal agencies to take this opportunity to comment on proposed or continuing information collections, as required by the Paperwork Reduction Act of 1995, Public Law 104-13 (44 U.S.C. 3506(c)(2)(A)).

DATES: Written comments must be submitted on or before November 13, 2001.

ADDRESSES: Direct all written comments to Madeleine G. Clayton, Departmental Paperwork Clearance Officer, Office of the Chief Information Officer, Department of Commerce, Room 6086, 14th and Constitution Avenue, NW, Washington, DC 20230 or via e-mail at mclayton@doc.com.

FOR FURTHER INFORMATION CONTACT: Requests for additional information or copies of the information collection instrument and instructions should be directed to Patricia A. Flynn, Director, Operations Review and Analysis Division, Economic Development Administration, Room 7015, Washington, DC 20230, telephone: (202) 482-5353.

SUPPLEMENTARY INFORMATION:

I. Abstract

The information collection is needed to ascertain whether a firm is eligible to apply for trade adjustment assistance. To be certified eligible, a firm must demonstrate that increased imports of articles directly competitive with its products contributed importantly to declines in sales or production and to actual or threatened job loss impact of increased imports. The information is required under Chapter 3 of Title II of the Trade Act of l974, as amended.

II. Method of Collection

The form is used by firms affected by import competition to petition EDA for certification of impact. Information submitted in the petition form is a major phase in obtaining a firm's history, including sales, production and employment data (the firm provides quarterly unemployment security forms submitted to the state, a description of the products produced by such firm, tax returns and/or financial statements, a firm's decline in sales accounts, and brochures of such firm's production).

III. Data

OMB Number: 0610-0091.

Agency Form Number: ED-840P.

Type of Review: Extension of a currently approved collection.

Burden: 1,576 hours.

Affected Public: Business firms which vary in size, including small firms.

Estimated Number of Respondents: 197.

Estimated Time per Response: 8 hours.

Estimated Total Annual Burden Hours: 1,576.

Estimated Total Annual Cost: $230,274.

IV. Request for Comments

Comments are invited on: (a) Whether the proposed collection of information is necessary for the proper performance of the functions of the agency, including whether the information shall have practical utility; (b) the accuracy of the agency's estimate of the burden (including hours and cost) of the proposed collection of information; (c) ways to enhance the equality, utility and clarity of the information to be collected; and (d) ways to minimize the burden of the collection of information on respondents, including through the use of automated collection techniques or other forms of information technology.

Comments submitted in response to this notice will be summarized and/or included in the request for OMB approval of this information collection; and they also will become a matter of public record.

Dated: September 7, 2001.
Madeleine Clayton,
Departmental Paperwork Clearance Officer, Office of the Chief Information Officer.

[FR Doc. 01-22955 Filed 9-12-01; 8:45 am]

BILLING CODE 3510-34-P